DEPARTMENT OF HEALTH AND HUMAN SERVICES

National Institutes of Health

Office of the Director; Notice of Charter Renewal

In accordance with Title 41 of the U.S. Code of Federal Regulations, Section 102-3.65(a), notice is hereby given that the Charter for the Novel and Exceptional Technology and Research Advisory Committee was renewed for an additional two-year period on June 30, 2019. Prior to this renewal, the Charter was amended to reflect the Committee's name change from the Recombinant DNA Advisory Committee to the Novel and Exceptional Technology and Research Advisory Committee.

It is determined that the Novel and Exceptional Technology and Research Advisory Committee is in the public interest in connection with the performance of duties imposed on the National Institutes of Health by law, and that these duties can best be performed through the advice and counsel of this group.

Inquiries may be directed to Claire Harris, Director, Office of Federal Advisory Committee Policy, Office of the Director, National Institutes of Health, 6701 Democracy Boulevard, Suite 1000, Bethesda, Maryland 20892 (Mail code 4875), Telephone (301) 496-2123, or harriscl@mail.nih.gov.

Dated: August 7, 2019.
Ronald J. Livingston, Jr.,
Program Analyst, Office of Federal Advisory Committee Policy.

[FR Doc. 2019-17244 Filed 8-12-19; 8:45 am]

BILLING CODE 4140-01-P